DEPARTMENT OF LABOR

Employment and Training Administration

[TA-W-56,945,TA-W-56,945A]

Pentair, Inc., Wicor, Inc., Including Leased Workers of Workforce Personnel and Personnel Plus, Long Beach, CA, Pentair, Inc., Wicor, Inc., Including Leased Workers of Kimco, Adecco, Kelly Services and Appleone, Murrieta, CA; Amended Certification Regarding Eligibility To Apply for Worker Adjustment Assistance and Alternative Trade Adjustment Assistance

In accordance with section 223 of the Trade Act of 1974 (19 U.S.C. 2273), and section 246 of the Trade Act of 1974, (26 U.S.C. 2813), as amended, the Department of Labor issued a Certification of Eligibility to Apply for Worker Adjustment Assistance and Alternative Trade Adjustment Assistance on May 13, 2005, applicable to workers of Pentair, Inc., including leased workers of Workforce Personnel and Personnel Plus, Long Beach, California and Pentair, Inc., including leased workers of Kimco, Adecco, Kelly Services and Appleone, Murrieta, California. The notice was published in the Federal Register on June 13, 2005 (70 FR 34155).

At the request of the State agency, the Department reviewed the certification for workers of the subject firm.

New information shows that Pentair purchased Wicor, Inc. in August 2004 that all workers separated from employment at the subject firm had their wages reported under a separate unemployment insurance (UI) tax account for Wicor, Inc.

Accordingly, the Department is amending the certification to properly reflect this matter.

The intent of the Department's certification is to include all workers of Pentair, Inc., including leased workers of Workforce Personnel and Personnel Plus, Long Beach, California and Pentair, Inc., including leased workers of Kemco, Adecco, Kelly Services and Appleone, Murrieta, California who were adversely affected by a shift in production to Mexico and China.

The amended notice applicable to TA-W-56,945 and TA-W-56,945A are hereby issued as follows:

All workers of Pentair, Inc., Wicor, Inc., including leased workers of Workforce Personnel and Personnel Plus, Long Beach, California and Pentair, Inc., Wicor, Inc., including leased workers of Kimco, Adecco, Kelly Services and Appleone Murrieta, California, who became totally or partially separated from employment on or after April 5, 2004, through May 13, 2007, are eligible to apply for adjustment assistance under Section 223 of the Trade Act of 1974, and are also eligible to apply for alternative trade adjustment assistance under Section 246 of the Trade Act of 1974.

Signed at Washington, DC this 9th day of September 2005.
Richard Church,
Certifying Officer, Division of Trade Adjustment Assistance.

[FR Doc. 05-18540 Filed 9-16-05; 8:45 am]

BILLING CODE 4510-30-P